DEPARTMENT OF HOMELAND SECURITY

[Docket No. DHS-2015-0027]

Homeland Security Science and Technology Advisory Committee Meeting

AGENCY: Science and Technology Directorate, DHS.

ACTION: Committee management; Notice of Federal advisory committee meeting.

SUMMARY: The Homeland Security Science and Technology Advisory Committee (HSSTAC) will meet on September 29, 2015, in Washington, DC. The meeting will be a virtual (Webinar)—open session.

DATES: The HSSTAC will meet virtually Tuesday, September 29, 2015 2 p.m.-3:30 p.m.

Please note the meeting may close early if the committee has completed its business.

ADDRESSES: Virtual Meeting, https://share.dhs.gov/hsstac2015. Dial: 800-857-9791, PIN: 5344344.

For information on services for individuals with disabilities or to request special assistance at the meeting, contact Bishop Garrison as soon as possible. To pre-register for the virtual meeting please send an email to: HSSTAC@HQ.DHS.GOV. The email should include the name(s), title, organization/affiliation, email address, and telephone number of those interested in attending.

To facilitate public participation, we invite public comment on the issues to be considered by the committee as listed in the Supplementary Information below. Written comments must be received by September 15, 2015, in the HSSTAC@HQ.DHS.GOV mailbox and include the subject line “Comments for HSSTAC Meeting”. The email must include the name(s), title, organization/affiliation, mailing address, email address, and telephone number, of the person(s) making the comment. If submitting in writing, please include the docket number (DHS-2015-0027) and submit via one of the following methods before September 15, 2015:

• Federal eRulemaking Portal: http://www.regulations.gov. Follow the instructions for submitting comments.

• Email: HSSTAC@HQ.DHS.GOV. Include the docket number in the subject line of the message.

• Fax: 202-254-6176.

• Mail: Bishop Garrison, HSSTAC Executive Director, S&T IAO STOP 0205, Department of Homeland Security, 245 Murray Lane, Washington, DC 20528-0205.

Instructions: All submissions received must include the words “Department of Homeland Security” and the docket number. Comments received will be posted without alteration at http://www.regulations.gov, including any personal information provided.

Docket: For access to the docket to read background documents or comments received by the HSSTAC, go to http://www.regulations.gov.

A period is allotted for public comment on September 29, 2015 after the completion of the Webinar. Please note that the public comment period may end before the time indicated, following the last call for comments. To register as a speaker, contact the person listed below.

FOR FURTHER INFORMATION CONTACT: Bishop Garrison, HSSTAC Executive Director, S&T IAO STOP 0205, Department of Homeland Security, 245 Murray Lane, Washington, DC 20528-0205, 202-254-5617 (O), 202-254-6176 (F), Bishop.Garrison@hq.dhs.gov.

SUPPLEMENTARY INFORMATION: Notice of this meeting is given under the Federal Advisory Committee Act (FACA), 5 U.S.C. App. (Pub. L. 92-463). The committee addresses areas of interest and importance to the Under Secretary for Science and Technology, such as new developments in systems engineering, cyber-security, knowledge management and how best to leverage related technologies funded by other federal agencies and by the private sector. It also advises the Under Secretary on policies, management processes, and organizational constructs as needed.

Agenda: Members will meet with the HSSTAC Designated Federal Officer (DFO) who will provide an introduction to the HSSTAC, explain the reorganization of the committee, and provide an overview of stakeholder engagement and engagement with industry. The members will be tasked with discussing strategic issues facing DHS S&T, such as resource allocation in today's homeland security threat environment and the future of S&T. The committee will review the information presented on each issue, deliberate on any preliminary recommendations and formulate initial recommendations for consideration at the next HSSTAC meeting.

Bishop Garrison,
Executive Director, Homeland Security Science and Technology Advisory Committee.

[FR Doc. 2015-22838 Filed 9-9-15; 8:45 am]

BILLING CODE 9110-9F-P